DEPARTMENT OF HOUSING AND URBAN DEVELOPMENT

[Docket No. FR-4557-N-47]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Ms. Barbara Jenkins, Air Force Real Estate Agency (Area-MI), Bolling Air Force Base, 112 Luke Ave., Suite 104, Building 5683, Washington, DC 20332-8020; (202) 767-4184; Army: Mr. Jeff Holste, Military Programs, U.S. Army Corps of Engineers, Installation Support Center, Planning Branch, Attn: CEMP-IP, 441 G Street, NW, Washington, DC 20314-1000; (202) 761-5737; COE: Ms. Shirley Middleswarth, Army Corps of Engineers, Management & Disposal Division, Pulaski Building, Room 4224, 20 Massachusetts Ave., NW, Washington, DC 20314-1000; (202) 761-0515; DOT: Mr. Rugene Spruill, Space Management, SVC-140, Transportation Administrative Service Center, Department of Transportation, 400 7th Street, SW Room 2310, Washington, DC 20590; (202) 366-4246; Energy: Mr. Tom Knox, Department of Energy, Office of Contract & Resource Management, MA-52, Washington, DC 20585; (202) 586-8715; Interior: Ms. Linda Tribby, Department of the Interior, 1849 C Street, NW, Mail Stop 5512-MIB, Washington, DC 20240; (202) 219-0728; Navy: Mr. Charles C. Cocks, Director, Department of the Navy, Real Estate Policy Division, Naval Facilities Engineering Command, Washington Navy Yard, 1322 Patterson Ave., SE, Suite 1000, Washington, DC 20374-5065; (202) 685-9200; (These are not toll-free numbers).

Dated: November 16, 2000.
Fred Karnas, Jr.,
Deputy Assistant Secretary for Special Needs Assistant Programs.

Title V, Federal Surplus Property Program, Federal Register Report for 11/24/00

Suitable/Available Properties

Buildings (by State)

California

Bldgs. 23027, 23025

Marine Corps Air Station

Miramar Co: San Diego CA 92132-

Landholding Agency: Navy

Property Number: 77200040023

Status: Unutilized

Comment: 400 sq. ft., metal siding, most recent use—loading facility, off-site use only

Georgia

Bldg. 2297

Fort Benning

Ft. Benning Co: Muscogee GA 31905-

Landholding Agency: Army

Property Number: 21199930126

Status: Unutilized

Comment: 5155 sq. ft., most recent use—admin.

Land (by State)

Arizona

0.22 acres

portion of parcel SG-1-169

E. Pueblo Ave & CAP

Apache Junction Co. Maricopa AZ 85206-

Landholding Agency: Interior

Property Number: 61200030010

Status: Excess

Comment: most recent use—aqueduct maintenance

Unsuitable Properties

Buildings (by State)

Alabama

Bldg. 3781

Redstone Arsenal

Redstone Arsenal Co. Madison AL 35898-5000

Landholding Agency: Army

Property Number: 21200040001

Status: Unutilized

Reasons: Secured Area, Extensive deterioration

Bldg. 5411

Redstone Arsenal

Redstone Arsenal Co. Madison AL 35898-5000

Landholding Agency: Army

Property Number: 21200040002

Status: Unutilized

Reasons: Secured Area, Extensive deterioration

Bldg. 7160

Redstone Arsenal

Redstone Arsenal Co. Madison AL 35898-5000

Landholding Agency: Army

Property Number: 21200040003

Status: Unutilized

Reasons: Secured Area, Extensive deterioration

Bldg. 7529

Redstone Arsenal

Redstone Arsenal Co. Madison AL 35898-5000

Landholding Agency: Army

Property Number: 21200040004

Status: Unutilized

Reasons: Secured Area, Extensive deterioration

Bldg. 7556

Redstone Arsenal

Redstone Arsenal Co. Madison AL 35898-5000

Landholding Agency: Army

Property Number: 21200040005

Status: Unutilized

Reasons: Secured Area, Extensive deterioration

Bldg. 7559

Redstone Arsenal

Redstone Arsenal Co. Madison AL 35898-5000

Landholding Agency: Army

Property Number: 21200040006

Status: Unutilized

Reasons: Secured Area, Extensive deterioration

Bldg. 7567

Redstone Arsenal

Redstone Arsenal Co. AL 35898-5000

Landholding Agency: Army

Property Number: 21200040007

Status: Unutilized

Reasons: Secured Area, Extensive deterioration

Bldg. 7171

Redstone Arsenal

Redstone Arsenal Co. Madison AL 35898-5000

Landholding Agency: Army

Property Number: 21200040008

Status: Unutilized

Reason: Secured Area, Extensive deterioration

Bldg. 7646

Redstone Arsenal

Redstone Arsenal Co. Madison AL 35898-5000

Landholding Agency: Army

Property Number: 21200040009

Status: Unutilized

Reasons: Secured Area, Extensive deterioration

Bldg. 7862

Redstone Arsenal

Redstone Arsenal Co: Madison AL 35898-5000

Landholding Agency: Army

Property Number: 21200040010

Status: Unutilized

Reasons: Secured Area, Extensive deterioration

Bldg. 8721

Redstone Arsenal

Redstone Arsenal Co: Madison AL 35898-5000

Landholding Agency: Army

Property Number: 21200040011

Status: Unutilized

Reasons: Secured Area, Extensive deterioration

Bldg. 8987

Redstone Arsenal

Redstone Arsenal Co: Madison AL 35898-5000

Landholding Agency: Army

Property Number: 21200040012

Status: Unutilized

Reasons: Secured Area, Extensive deterioration

Bldg. 30115

Fort Rucker

Ft. Rucker Co: Dale AL 36362-5138

Landholding Agency: Army

Property Number:21200040013

Status: Unutilized

Reason: Extensive deterioration

California

Bldg. 6436

Vanderberg AFB

Vanderberg AFB Co: Santa Barbara CA 93437-

Landholding Agency: Air Force

Property Number: 18200040001

Status: Unutilized

Reason: Extensive deterioration

Bldgs. P-15000, P-15004

Fort Irwin

Ft. Irwin Co: San Bernardino CA 92310-

Landholding Agency: Army

Property Number: 21200040014

Status: Unutilized

Reason: Extensive deterioration

Bldgs. S-508

Sharpe Site

Lathrop Co: San Joaquin CA 95231-

Landholding Agency: Army

Property Number: 21200040015

Status: Unutilized

Reason: Secured Area

Bldg. 1393

Marine Corps Base

Camp Pendleton Co: CA 92055-

Landholding Agency: Navy

Property Number: 77200040024

Status: Excess

Reason: Extensive deterioration

Bldg. 25155

Marine Corps Base

Camp Pendleton Co: CA 92055-

Landholding Agency: Navy

Property Number: 77200040025

Status: Excess

Reason: Extensive deterioration

Bldg. 25158

Marine Corps Base

Camp Pendleton Co: CA 92055-

Landholding Agency: Navy

Property Number: 77200040026

Status: Excess

Reason: Extensive deterioration

Bldg. 25159

Marine Corps Base

Camp Pendleton Co: CA 92055-

Landholding Agency: Navy

Property Number: 77200040027

Status: Excess

Reason: Extensive deterioration

Georgia

Bldg. 47

Ft. McPherson

Ft. McPherson Co: Fulton GA 30330-

Landholding Agency: Army

Property Number: 21200040016

Status: Unutilized

Reason: Secured Area

Bldg. 179

Ft. McPherson

Ft. McPherson Co: Fulton GA 30330-

Landholding Agency: Army

Property Number: 21200040017

Status: Unutilized

Reason: Secured Area

Bldg. 186

Ft. McPherson

Ft. McPherson Co: Fulton GA 30330-

Landholding Agency: Army

Property Number: 21200040018

Status: Unutilized

Reason: Secured Area

Bldg. 607

Fort Gillem

Ft. Gillem Co: Clayton GA 30298-

Landholding Agency: Army

Property Number: 21200040019

Status: Unutilized

Reason: Extensive deterioration

Bldgs. 825, 828

Fort Gillem

Ft. Gillem Co: Clayton GA 30298-

Landholding Agency: Army

Property Number: 21200040020

Status: Unutilized

Reason: Extensive deterioration

Bldg. 935

Fort Gillem

Ft. Gillem Co: Clayton GA 30298-

Landholding Agency: Army

Property Number: 21200040021

Status: Unutilized

Reason: Extensive deterioration

Hawaii

Phase II Lift Station

Red Hill

Honolulu Co: HI 96818-

Landholding Agency: DOT

Property Number: 87200040001

Status: Unutilized

Reason: Within 2000 ft. of flammable or explosive material

Bldg. 1820

Coast Guard ISC

Honolulu Co: HI 96819-

Landholding Agency: DOT

Property Number: 87200040002

Status: Unutilized

Reasons: Within 2000 ft. of flammable or explosive material, Extensive deterioration

Kentucky

Bldgs. 04881, 04882

Fort Knox

Ft. Knox Co: Hardin KY 40121-

Landholding Agency: Army

Property Number: 21200040022

Status: Unutilized

Reason: Extensive deterioration

Bldg. 05232

Fort Knox

Ft. Knox Co: Hardin KY 40121-

Landholding Agency: Army

Property Number: 21200040023

Status: Unutilized

Reason: Extensive deterioration

Bldgs. T05713, T05725

Fort Campbell

Ft. Campbell Co: KY 42223-

Landholding Agency: Army

Property Number: 21200040024

Status: Unutilized

Reason: Extensive deterioration

Louisiana

Bldg. 7705

Fort Polk

Ft. Polk Co: Vernon Parish LA 71459-

Landholding Agency: Army

Property Number: 21200040025

Status: Unutilized

Reasons: Floodway, Extensive deterioration

Bldg. 7707

Fort Polk

Ft. Polk Co: Vernon Parish LA 71459-

Landholding Agency: Army

Property Number: 21200040026

Status: Unutilized

Reasons: Floodway, Extensive deterioration

Bldg. 7709

Fort Polk

Ft. Polk Co: Vernon Parish LA 71459-

Landholding Agency: Army

Property Number: 21200040027

Status: Unutilized

Reason: Floodway

Bldg. 7710

Fort Polk

Ft. Polk Co: Vernon Parish LA 71459-

Landholding Agency: Army

Property Number: 21200040028

Status: Unutilized

Reason: Floodway, Extensive deterioration

Bldg. 7722

Fort Polk

Ft. Polk Co: Vernon Parish LA 71459-

Landholding Agency: Army

Property Number: 21200040029

Status: Unutilized

Reason: Floodway, Extensive deterioration

Maryland

Bldg. 1226

Andrews AFB

Camp Springs Co: Prince George's MD 20762-

Landholding Agency: Air Force

Property Number: 18200040002

Status: Unutilized

Reason: Secured Area

Bldg. 03322

Aberdeen Proving Ground

Aberdeen Co: Harford MD 21005-5001

Landholding Agency: Army

Property Number: 21200040030

Status: Unutilized

Reason: Extensive deterioration

Michigan

Boathouse

Coast Guard Station

East Tawas Co: Iosco MI 48730-

Landholding Agency: DOT

Property Number: 87200040003

Status: Unutilized

Reason: Secured Area, Extensive deterioration

Minnesota

Bldg. F5 1973-01

Mississippi Hdqts. Gull Lake

Proj

Brainerd Co: Cass MN 56401-9051

Landholding Agency: COE

Property Number: 31200040001

Status: Unutilized

Reason: Extensive deterioration

New Jersey

Bldg. T05134

Fort Dix

Ft. Polk Co: Burlington NJ 08640-5505

Landholding Agency: Army

Property Number: 21200040031

Status: Unutilized

Reason: Extensive deterioration

New Mexico

Bldg. 197

Holloman AFB

Holloman AFB Co: Otero NM 88330-

Landholding Agency: Air Force

Property Number: 18200040003

Status: Unutilized

Reason: Within 2000 ft. of flammable or explosive material, Secured Area

Bldg. 30, TA-21

Los Alamos National Lab

Los Alamos Co: NM 87545-

Landholding Agency: Energy

Property Number: 41200040001

Status: Unutilized

Reason: Secured Area

Bldg. 152 TA-21

Los Alamos National Lab

Los Alamos Co: NM 87545-

Landholding Agency: Energy

Property Number: 41200040002

Status: Unutilized

Reason: Secured Area

North Carolina

3 Bldgs.

Fort Bragg

Ft. Bragg Co: Cumberland NC 28310-5000

Location: E-2320, 0-3505, 0-9029

Landholding Agency: Army

Property Number: 21200040032

Status: Unutilized

Reason: Extensive deterioration

4 Bldgs.

Fort Bragg

Ft. Bragg Co: Cumberland NC 28310-5000

Location: 8-6811, 8-6813, 8-6911, 8-7039

Landholding Agency: Army

Property Number: 21200040033

Status: Unutilized

Reason: Extensive deterioration

3 Bldgs.

Fort Bragg

Ft. Bragg Co: Cumberland NC 28310-5000

Location: Y-7502, Y-7602, Y-7802

Landholding Agency: Army

Property Number: 21200040034

Status: Unutilized

Reason: Extensive deterioration

3 Bldgs.

Fort Bragg

Ft. Bragg Co: Cumberland NC 28310-5000

Location: 2-3330, 2-3403, 2-5519

Landholding Agency: Army

Property Number: 21200040035

Status: Unutilized

Reason: Extensive deterioration

6 Bldgs.

Fort Bragg

Ft. Bragg Co: Cumberland NC 28310-5000

Location: 4-1444, 0-5303, 0-6401, 0-9401, 0-9403, 0-9404

Landholding Agency: Army

Property Number: 21200040036

Status: Unutilized

Reason: Extensive deterioration

19 Bldgs.

Fort Bragg

Ft. Bragg Co: Cumberland NC 28310-5000

Location: 0-1401, 0-1403, 0-2503, 0-2603, 0-2703, 0-2803, 0-3103, 0-3403, 0-4103, 0-4203, 0-4403, 0-4603, 0-4703, 0-5603, 0-5803, 0-6503, 0-663D, 0-663E, 0-6703

Landholding Agency: Army

Property Number: 21200040037

Status: Unutilized

Reason: Extensive deterioration

South Carolina

Bldg. 7

Naval Weapons Station

Goose Creek Co: Berkeley SC 29445-

Landholding Agency: Navy

Property Number: 77200040030

Status: Unutilized

Reason: Secured Area

Bldg. 314

Naval Weapons Station

Goose Creek Co: Berkeley SC 29445-

Landholding Agency: Navy

Property Number: 77200040031

Status: Unutilized

Reason: Secured Area

Bldg. 316

Naval Weapons Station

Goose Creek Co: Berkeley SC 29445-

Landholding Agency: Navy

Property Number: 77200040032

Status: Unutilized

Reason: Secured Area

Tennessee

Bldg. A613

Holston Army Ammunition Plant

Kingsport Co: Sullivan TN 37550-

Landholding Agency: Army

Property Number: 21200040038

Status: Unutilized

Reason: Extensive deterioration

4 Bldgs.

Fort Story

304, 310, 755, 760

Ft. Story Co: Princess Ann VA 23459-

Landholding Agency: Army

Property Number: 21200040039

Status: Unutilized

Reason: Extensive deterioration

Bldg. T-9100

Fort Lee

Ft. Lee Co: Prince George VA 23801-

Landholding Agency: Army

Property Number: 21200040040

Status: Unutilized

Reason: Extensive deterioration

4 Bldgs.

Fort A.P. Hill

TT0712, TT0713, TT0714, TT0715

Bowling Green Co: VA 22427-

Landholding Agency: Army

Property Number: 21200040041

Status: Unutilized

Reason: Extensive deterioration

Bldg. SS1623

Fort A.P. Hill

Bowling Green Co: VA 22427-

Landholding Agency: Army

Property Number: 21200040042

Status: Unutilized

Reason: Extensive deterioration

Family Housing Units

Marine Corps Base

Quantico Co: VA

Landholding Agency: Navy

Property Number: 77200040033

Status: Unutilized

Reason: Extensive deterioration

[FR Doc. 00-29827 Filed 11-22-00; 8:45 am]

BILLING CODE 4210-29-M